DEPARTMENT OF TRANSPORTATION

Federal Aviation Administration

14 CFR Part 71

[Docket No. FAA-2004-17096; Airspace Docket No. 04-AGL-05]

Modification of Class E Airspace; South Haven, MI; Correction

AGENCY: Federal Aviation Administration (FAA), DOT.

ACTION: Final rule; correction.

SUMMARY: This action corrects errors contained in a final rule that was published in the Federal Register on Tuesday, August 24, 2004 (69 FR 51946). The final rule modified Class E airspace at South Haven, MI.

EFFECTIVE DATE: 0901 UTC, November 25, 2004.

FOR FURTHER INFORMATION CONTACT: J. Mark Reeves, Central Service Office, Airspace Branch, AGL-520, Federal Aviation Administration, 2300 East Devon Avenue, Des Plaines, IL 60018, telephone: (847) 294-7477.

SUPPLEMENTARY INFORMATION:

History

Federal Register document 04-19372 published on Tuesday, August 24, 2004 (69 FR 51946), modified Class E airspace at South Haven, MI. An incorrect coordinate was used in the legal description and it also contained an incorrect airspace exclusion. This action corrects these errors.

Accordingly, pursuant to the authority delegated to me, the errors for the Class E airspace, South Haven, MI, as published in the Federal Register Tuesday, August 24, 2004, (69 FR 51946), (FR Doc. 04-19372), is corrected as follows:

PART 71—[AMENDED]

§ 71.1 [Corrected]

1. On page 51947, Column 1; in the legal description;

A. Change the coordinates for Watervliet, Watervliet Community Hospital, MI Point in Space to read;

(Lat. 42°11′06″ N., long. 86°15′02″ W.)

B. Change “excluding that airspace within the South Bend, IN, Class E airspace area” to read; “excluding that airspace within the Benton Harbor, MI, Class E airspace area”.

Issued in Des Plaines, Illinois on November 16, 2004.
Nancy B. Kort,
Area Director, Central Terminal Operations.

[FR Doc. 04-27094 Filed 12-9-04; 8:45 am]

BILLING CODE 4910-13-M